DEPARTMENT OF HOMELAND SECURITY

Coast Guard

33 CFR Part 100

[Docket No. USCG-2011-0595]

RIN 1625-AA08

Columbia Unlimited Hydroplane Races; Kennewick, WA

AGENCY: Coast Guard, DHS.

ACTION: Notice of enforcement of regulation.

SUMMARY: The Coast Guard will enforce the Special Local Regulation for the Columbia Unlimited Hydroplane Races from Tuesday, July 24th through Sunday July 29th, 2012. This action is necessary to ensure the safety of persons and vessels involved in the Annual Kennewick, Washington, Columbia Unlimited Hydroplane Races (Water Follies). During the enforcement period, no vessel may operate in this area without permission from the on scene Patrol Commander.

DATES: The regulations in 33 CFR 100.1303 will be enforced from Tuesday, July 24th through Sunday July 29th, 2012 from 8:30 a.m. until the last race is completed each day at approximately 7:30 p.m., unless sooner terminated by the Patrol Commander.

FOR FURTHER INFORMATION CONTACT: If you have questions on this notice, call or email BM1 Silvestre Suga III, Coast Guard Marine Safety Unit Portland; telephone 503-240-9327, email Silvestre.G.Suga@USCG.mil.

SUPPLEMENTARY INFORMATION: The Coast Guard will enforce the regulations found in 33 CFR 100.1303 restricting regular navigation and anchoring activities on the Columbia River near Kennewick, Washington during the periods specified in the DATES section.

Under the provisions of 33 CFR 100.1303, no person or vessel may enter or remain in the regulated area without permission of the Captain of the Port, Columbia River or his designated on-scene Patrol Commander. Persons or vessels wishing to enter the area may request permission to do so from the on-scene Patrol Commander via VHF Channel 16 or 13. The Coast Guard may be assisted by other Federal, State, or local enforcement agencies in enforcing this regulation.

This notice is issued under authority of 5 U.S.C. 552(a).

In addition to this notice in the Federal Register, the Coast Guard will provide the maritime community with notification of these enforcement periods via Local Notice to Mariners.

Dated: May 3, 2012.
B.C. Jones,
Captain, U.S. Coast Guard, Captain of the Port, Columbia River.

[FR Doc. 2012-13683 Filed 6-5-12; 8:45 am]

BILLING CODE 9110-04-P